DEPARTMENT OF TRANSPORTATION

Federal Aviation Administration

14 CFR Part 39

[Docket No. 2003-NM-25-AD; Amendment 39-13567; AD 2004-07-23]

RIN 2120-AA64

Airworthiness Directives; Saab Model SAAB SF340A and SAAB 340B Series Airplanes

AGENCY: Federal Aviation Administration, DOT.

ACTION: Final rule.

SUMMARY: This amendment adopts a new airworthiness directive (AD), applicable to certain Saab Model SAAB SF340A and SAAB 340B series airplanes, that requires replacement of certain assistor springs and bearings with certain new assistor springs and bearings. This action is necessary to prevent possible collapse of a main landing gear upon landing and consequent reduced controllability of the airplane. This action is intended to address the identified unsafe condition.

DATES: Effective May 11, 2004.

The incorporation by reference of a certain publication listed in the regulations is approved by the Director of the Federal Register as of May 11, 2004.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Saab Model SAAB SF340A and SAAB 340B series airplanes was published in the Federal Register on February 6, 2004 (69 FR 5792). That action proposed to require replacement of certain assistor springs and bearings with certain new assistor springs and bearings.

Comments

Interested persons have been afforded an opportunity to participate in the making of this amendment. No comments were submitted in response to the proposal or the FAA's determination of the cost to the public.

Explanation of Change Made to the Final Rule

The FAA has revised the citation format for Saab Service Bulletin 340-32-130, dated April 28, 2003, referenced in paragraph (a) of this final rule, to adhere to the Office of the Federal Register's guidelines for materials incorporated by reference.

Conclusion

After careful review of the available data the FAA has determined that air safety and the public interest require the adoption of the rule with the change previously described. The FAA has determined that this change will neither increase the economic burden on any operator nor increase the scope of the AD.

Cost Impact

The FAA estimates that 288 airplanes of U.S. registry will be affected by this AD, that it will take approximately 2 work hours per airplane to accomplish the required actions, and that the average labor rate is $65 per work hour. Required parts will cost approximately $750 per airplane. Based on these figures, the cost impact of the AD on U.S. operators is estimated to be $253,440, or $880 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-23 Saab Aircraft AB: Amendment 39-13567. Docket 2003-NM-25-AD.

Applicability: Model SAAB SF340A series airplanes with serial numbers 004 through 159 inclusive, and Model SAAB 340B series airplanes with serial numbers 160 through 459 inclusive; certificated in any category.

Compliance: Required as indicated, unless accomplished previously.

To prevent possible collapse of a main landing gear upon landing and consequent reduced controllability of the airplane, accomplish the following:

Replacements

(a) Within the compliance times listed in Table 1 of this AD, perform the actions specified in paragraphs (a)(1) and (a)(2) of this AD per the Accomplishment Instructions of Saab Service Bulletin 340-32-130, dated April 28, 2003; including Attachments 1 and 2, Revision 1, dated April 2003; and Attachments 3 and 4, dated April 2003.

Table 1—Compliance Times
Within— | If—
6 months after the effective date of this AD | Saab Service Bulletin 340-32-126, dated December 18, 2002, has been performed.
3 months after the effective date of this AD | Saab Service Bulletin 340-32-126, dated December 18, 2002, has not been performed.

(1) Replace the assistor springs of the main landing gear with new assistor springs, per Part 1 of the service bulletin.

(2) Replace the bearings of the main landing gear with new bearings, per Part 2 of the service bulletin.

Parts Installation

(b) As of the effective date of this AD, no person may install an assistor spring, part number AIR125132 or AIR131330, on any airplane.

Alternative Methods of Compliance

(c) In accordance with 14 CFR 39.19, the Manager, International Branch, ANM-116, FAA, Transport Airplane Directorate, is authorized to approve alternative methods of compliance for this AD.

Incorporation by Reference

(d) The replacements shall be done in accordance with Saab Service Bulletin 340-32-130, dated April 28, 2003; including Attachments 1 and 2, Revision 1, dated April 2003; and Attachments 3 and 4, dated April 2003. This document contains the following effective pages:

Revision level page number | Date shown on page | Shown on page
1-6 | Original | April 28, 2003
Attachment 1
1-3 | 1 | April 2003
Attachment 2
1-3 | 1 | April 2003
Attachment 3
1-3 | Original | April 2003
Attachment 4
1-3 | Original | April 2003

This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the Office of the Federal Register, 800 North Capitol Street, NW., suite 700, Washington, DC.

Note 1: The subject of this AD is addressed in Swedish airworthiness directive No 1-191, dated April 28, 2003.

Effective Date

(e) This amendment becomes effective on May 11, 2004.

Issued in Renton, Washington, on March 26, 2004.
Kalene C. Yanamura,
Acting Manager, Transport Airplane Directorate, Aircraft Certification Service.

[FR Doc. 04-7472 Filed 4-5-04; 8:45 am]

BILLING CODE 4910-13-P